ENVIRONMENTAL PROTECTION AGENCY

[EPA-HQ-OPP-2013-0036; FRL-9376-6]

Access Interpreting; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Access Interpreting in accordance with the CBI regulations. Access Interpreting has been awarded a contract to perform work for OPP, and access to this information will enable Access Interpreting to fulfill the obligations of the contract.

DATES: Access Interpreting will be given access to this information on or before February 19, 2013.

FOR FURTHER INFORMATION CONTACT: MaryC Simmons, Information Technology and Resources Management Division (7502P), Office of Pesticide Programs, Environmental Protection Agency, 1200 Pennsylvania Ave. NW., Washington, DC 20460-0001; telephone number: (703) 305-6452: email address: simmons.maryc@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2013-0036. Publicly available docket materials are available either in the electronic docket http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under Contract No. EP10H000109, this contract is to provide the Environmental Protection Agency, Office of Human Resources (OHR) with Sign Language interpreting services. The contractor shall provide professional interpreters who shall make every effort to arrive at scheduled assignments 15 minutes prior to the start of the assignment, concurrent with general interpreting standards. Contract interpreters whom the Contractor sends must have a cell phone or text pager that will allow them to get instant messages for quick communication of last minute changes.

The work will be performed in a space to be designated by EPA, primarily at EPA Headquarters and other Washington, DC area EPA facilities. Occasional travel will be involved. The sign language personnel will report to the location specified by the EPA Headquarters Interpreting Coordinator, also identified as the Project Officer under this contract. There will be some requests for interpreters in different areas of the United States. The contractor must have the ability to procure services in different locations throughout the country. The Contractor must primarily serve Deaf and hard of hearing persons as a major function of their business and be stationed in the Washington, DC metropolitan area.

This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under FIFRA sections 3, 4, 6, and 7 and under FFDCA sections 408 and 409.

In accordance with the requirements of 40 CFR 2.307(h)(3), the contract with Access Interpreting prohibits use of the information for any purpose not specified in this contract; prohibits disclosure of the information to a third party without prior written approval from the Agency; and requires that each official and employee of the contractor sign an agreement to protect the information from unauthorized release and to handle it in accordance with the FIFRA Information Security Manual. In addition, Access Interpreting is required to submit for EPA approval a security plan under which any CBI will be secured and protected against unauthorized release or compromise. No information will be provided to Access Interpreting until the requirements in this document have been fully satisfied. Records of information provided to Access Interpreting will be maintained by EPA Project Officers for this contract. All information supplied to Access Interpreting by EPA for use in connection with this contract will be returned to EPA when Access Interpreting has completed its work.

List of Subjects

Environmental protection, Business and industry, Government contract, Government property, Security measures.

Dated: January 30, 2013.
Oscar Morales,
Director, Information Technology and Resources Management Division, Office of Pesticide Programs.

[FR Doc. 2013-03330 Filed 2-12-13; 8:45 am]

BILLING CODE 6560-50-P